OFFICE OF SCIENCE AND TECHNOLOGY POLICY

Achieving Interoperability for Latent Fingerprint Identification: A Report

ACTION: Request for public comment.

SUMMARY: The National Science and Technology Council's Committee on Science requests public comment on the draft report Achieving Interoperability for Latent Fingerprint Identification in the United States. The draft report will be posted at www.whitehouse.gov/administration/eop/ostp/library/shareyourinput. Comments of approximately three pages or fewer in length (12,000 characters) are requested and must be received by November 26, 2014 to be considered.

DATES: Responses must be received by November 26, 2014 to be considered.

ADDRESSES: You may submit comments by any of the following methods:

• Email: NSTC_latent@ostp.gov. Include [AFIS Interoperability] in the subject line of the message.

• Fax: (202) 456-6040, Attn: Tania Simoncelli.

• Mail: Attn: Tania Simoncelli, Office of Science and Technology Policy, Eisenhower Executive Office Building, 1650 Pennsylvania Ave. NW., Washington, DC 20504.

Instructions: Respondents may submit their comments (3 pages or fewer) through one of the above methods. Submission via email is preferred. Responses to this request for public comment may be posted without change online. OSTP therefore requests that no business proprietary information, copyrighted information, or sensitive personally identifiable information be submitted in response to this request. Please note that the U.S. Government will not pay for response preparation, or for the use of any information contained in the response.

FOR FURTHER INFORMATION CONTACT: Tania Simoncelli, (202) 456-4444, NSTC_latent@ostp.eop.gov, OSTP.

SUPPLEMENTARY INFORMATION: This request for public comment offers the opportunity for interested individuals and organizations to comment on the National Science and Technology Council's Committee on Science draft report entitled Achieving Interoperability for Latent Fingerprint Identification in the United States. The report is available at www.whitehouse.gov/administration/eop/ostp/library/shareyourinput.

In 2010, the NSTC created a Subcommittee on Forensic Science (SoFS) to assess the challenges of and opportunities for implementing recommendations made by the National Research Council (NRC) in its 2009 report, Strengthening Forensic Science in the United States: A Path Forward www.ncjrs.gov/pdffiles1/nij/grants/228091.pdf. Among its recommendations, the NRC called on the Federal Government to launch a “broad-based effort to achieve nationwide fingerprint data interoperability.” In response to this recommendation, the SoFS chartered the AFIS Interoperability Task Force with the goal of coordinating the development of a strategic plan for achieving this goal. This report, Achieving Interoperability for Latent Fingerprint Identification in the United States, evolved out of the work of the Task Force. The report describes the current state of latent interoperability among Automated Fingerprint Identification Systems (AFIS) and identifies a series of actions that can be taken by Federal agencies to implement the standards needed to achieve interoperability, develop an overarching national connectivity strategy and infrastructure, and support State and local agencies in building connections across jurisdictions.

Ted Wackler,
Deputy Chief of Staff and Assistant Director.

[FR Doc. 2014-25298 Filed 10-22-14; 8:45 am]

BILLING CODE 3270-F5-P